NUCLEAR REGULATORY COMMISSION

[NRC-2014-0001]

Sunshine Act Meeting Notice

DATE: Weeks of October 6, 13, 20, 27, November 3, 10, 17, 2014.

PLACE: Commissioners' Conference Room, 11555 Rockville Pike, Rockville, Maryland.

STATUS: Public and Closed.

Week of October 6, 2014

Friday, October 10, 2014

9:45 a.m. Discussion of Security Matters (Closed—Ex. 9)

Week of October 13, 2014

There are no meetings scheduled for the week of October 13, 2014.

Week of October 20, 2014—Tentative

There are no meetings scheduled for the week of October 20, 2014.

Week of October 27, 2014—Tentative

Wednesday, October 29, 2014

9:00 a.m. Briefing on Security Issues (Closed—Ex. 1)

1:30 p.m. Briefing on Security Issues (Closed—Ex. 1)

Thursday, October 30, 2014

9:00 a.m. Briefing on Watts Bar Unit 2 License Application Review (Public Meeting) (Contact: Justin Poole, 301-415-2048)

This meeting will be webcast live at the Web address— http://www.nrc.gov/.

Week of November 3, 2014—Tentative

Tuesday, November 5, 2014

1:00 p.m. Briefing on Small Modular Reactors (Public Meeting) (Contact: Rollie D. Berry, III, 301-415-8162)

This meeting will be webcast live at the Web address— http://www.nrc.gov/.

Week of November 10, 2014—Tentative

Thursday, November 13, 2014

9:00 a.m. Strategic Programmatic Overview of the Nuclear Material Users and the Fuel Facilities Business Lines (Public Meeting) (Contact: Cinthya Roman, 301-287-9091)

This meeting will be Webcast live at the Web address— http://www.nrc.gov/.

1:30 p.m. Discussion of Management and Personnel Issues (Closed—Ex. 2 and 6)

Week of November 17, 2014—Tentative

Thursday, November 20, 2014

9:30 a.m. Briefing on Project Aim 2020 (Closed—Ex. 2)

* * * * *

The schedule for Commission meetings is subject to change on short notice. For more information or to verify the status of meetings, contact Rochelle Bavol at (301) 415-1651 or via email at Rochelle.Bavol@nrc.gov.

* * * * *

ADDITIONAL INFORMATION: By a vote of 3-0 on October 8 and 9, 2014, the Commission determined pursuant to U.S. C. 552b(e) and § 9.107(a) of the Commission's rules that the October 10, 2014, Discussion of Security Matters be held with less than one week notice to the public.

The Discussion of Management and Personnel Issues (Closed—Ex. 2 and 6)

previously scheduled for October 15 at 11:00 a.m. has been rescheduled to November 13 at 1:30 p.m.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0727, by videophone at 240-428-3217, or by email at Kimberly.Meyer-Chambers@nrc.gov . Determinations on requests for reasonable accommodation will be made on a case-by-case basis.

* * * * *

Members of the public may request to receive this information electronically. If you would like to be added to the distribution, please contact the Office of the Secretary, Washington, DC 20555 (301-415-1969), or send an email to Patricia.Jimenez@nrc.gov or Brenda.Akstulewicz@nrc.gov

Dated: October 9, 2014.
Rochelle C. Bavol,
Policy Coordinator, Office of the Secretary.

[FR Doc. 2014-24475 Filed 10-9-14; 4:15 pm]

BILLING CODE 7590-01-P